FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201319.

Agreement Name: “K” Line/Kyowa Shipping—Japan/Guam/Saipan Car Carrier Space Charter Agreement.

Parties: Kawasaki Kisen Kaisha, Ltd. and Kyowa Shipping Co., Ltd.

Filing Party: John Meade; “K” Line America, Inc.

Synopsis: The Agreement authorizes the parties to charter space on each other's Ro/Ro vessels and to agree on cooperative working arrangements in the trade between ports in Japan, Guam, and Saipan.

Proposed Effective Date: 8/23/2019.

Location: https://www2.fmc.gov/FMC.Agreements.Web/Public/AgreementHistory/22434.

Agreement No.: 012440-001.

Agreement Name: WW Ocean and NYK Space Charter Agreement.

Parties: Wallenius Wilhelmsen Ocean AS and Nippon Yusen Kaisha.

Filing Party: Wayne Rohde; Cozen O'Connor.

Synopsis: The amendment changes the name of the Wallenius Wilhelmsen entity that is a party to the Agreement, corrects its address, and restates the Agreement.

Proposed Effective Date: 8/26/2019.

Location: https://www2.fmc.gov/FMC.Agreements.Web/Public/AgreementHistory/1914.

Agreement No.: 011836-002.

Agreement Name: WW Ocean/K-Line Space Charter Agreement.

Parties: Wallenius Wilhelmsen Ocean AS and Kawasaki Kisen Kaisha, Ltd.

Filing Party: Wayne Rohde; Cozen O'Connor.

Synopsis: The amendment changes the name of the Wallenius Wilhelmsen entity that is party to the Agreement, corrects its address, deletes obsolete language, and restates the Agreement. The amendment also expands the geographic scope of the agreement to cover all U.S. trades.

Proposed Effective Date: 10/12/2019.

Location: https://www2.fmc.gov/FMC.Agreements.Web/Public/AgreementHistory/564.

Dated: August 30, 2019.
Rachel E. Dickon,
Secretary.

[FR Doc. 2019-19196 Filed 9-4-19; 8:45 am]

BILLING CODE 6731-AA-P